DEPARTMENT OF HEALTH AND HUMAN SERVICES

National Institutes of Health

National Institute of Child Health and Human Development; Notice of Meeting

Pursuant to section 10(a) of the Federal Advisory committee Act, as amended (5 U.S.C. Appendix 2), notice is hereby given of a meeting of the National Children's Study Assembly and Working Groups Meetings. The parent committee for this workgroup is the National Longitudinal Study of Environmental Effects on Child Health and Development Advisory Committee.

The meetings will be open to the public, with attendance limited to space available. Individuals who plan to attend and need special assistance, such as sign language interpretation or other reasonable accommodations, should notify the Contact Person listed below in advance of the meeting. To register for the meetings, visit the registration Web site at: http://NCS.iqsolutions.com, send an email message to: NCSmeet@iqsolutions.com, or call 301-984-1471 ext. 279.

Name of Committee: National Children's Study Working Groups and Study Assembly Meetings.

Date: Working Groups: April 8, 2002, 8 a.m. to 6:30 p.m. April 9, 2002, 8 a.m. to 12 p.m. Study Assembly: April 9, 2002, 1 p.m. to 5 p.m. Registration begins: April 7, 2002, 1 p.m. April 8-9, 2002, 7 a.m.

Agenda: Summary: The National Institute of Child Health and Human Development (NICHD), National Institutes of Health, Department of Health and Human Services is announcing a series of meetings co-sponsored by the Environmental Protection Agency, the National Institute of Environmental Health Sciences, and the Centers for Disease Control and Prevention. IQ Solutions, Inc., a government contractor, is coordinating the logistics of the meetings. Members of Working Groups focusing on various issues related to study planning will meet on Monday, April 8 and Tuesday, April 9. Tuesday, April 9 will also consist of the Study Assembly meeting. The purpose of the Study Assembly meeting is to discuss the status of planning this longitudinal study of environmental effects on the well-being of children. Content of the meeting will include a status report on development of planning for the study thus far, and reports on specific issues including, for example, proposed hypotheses for the Study, study design issues, and the timeline for the remainder of the planning phase. The Study Assembly is made up of all stakeholders interested in the Study. Its purpose is to disseminate information to members and to serve as a conduit for bringing information and views from individuals and various organizations to the Study organization. The Study Assembly is open to anyone who indicates an interest in the Study, and includes representatives of all stakeholders, both inside and outside of government, advocacy groups, industry, academic institutions, state and local governments, and community groups. To become a member of the Study Assembly, interested persons should send an e-mail to: NCS@mail.nib.gov. Study Assembly members are welcome as observers during the other open meetings of this series.

Place: Sheraton Premiere Hotel, 8661 Leesburg Pike, Vienna, Virginia.

Contact Person: Peter M. Scheidt, M.D., Medical Officer, Division of Epidemiology, Statistics and Prevention Research, National Institute of Child Health and Human Development, NIH, 6100 Executive Boulevard, Room 7B03, Bethesda, MD 20892. (301) 451-6421. Ncs@mail.nih.gov.

This notice is being published less than 15 days prior to the meeting due to the timing limitations imposed by the review and funding cycle.

Dated: March 29, 2002.
LaVerne Y. Stringfield,
Director, Office of Federal Advisory Committee Policy.

[FR Doc. 02-8317 Filed 4-4-02; 8:45 am]

BILLING CODE 4140-01-M